DEPARTMENT OF JUSTICE

[CPCLO Order No. 002-2012]

Privacy Act of 1974; System of Records

AGENCY: Department of Justice.

ACTION: Notice of a new system of records and removal of three systems of records notices.

SUMMARY: Pursuant to the Privacy Act of 1974, 5 U.S.C. 552a, and the Office of Management and Budget (OMB) Circular A-130, notice is hereby given that the Department of Justice (DOJ or Department) proposes to establish a new Department-wide system of records notice, entitled Debt Collection Enforcement System, JUSTICE/DOJ-016. The purpose of publishing this Department-wide system notice is to reflect the Department's consolidation of its multiple debt collection systems, which were previously maintained in various individual DOJ components, into a single, centralized system. The new system will be used by all DOJ components that currently have debt collection and enforcement responsibilities. The Department's consolidation of its debt collection systems enables the Department to improve data integrity, facilitate communication among DOJ components, support Department-wide debt collection initiatives, provide for better accountability and timely reporting, and centralize administrative functions and payment processing.

Because this system notice reflects the consolidation of existing DOJ debt collection and enforcement systems, this notice replaces, and the Department hereby removes the following system notices previously published by individual DOJ components:

1. Executive Office for United States Attorneys, “Debt Collection Enforcement System,” JUSTICE/USA-015 (71 FR 42118, Jul. 25, 2006);

2. Justice Management Division (JMD), “Debt Collection Management System,”

JUSTICE/JMD-006 (58 FR 60058, Nov. 12, 1993); and

3. JMD, “Debt Collection Offset Payment System,” JUSTICE/JMD-009 (62 FR 33438, Jun. 19, 1997).

Also, this notice now covers debt collection records that previously have been part of or included in the following systems of records notices:

1. Antitrust Division, “Antitrust Information Management Information System (AMIS)—Monthly Report,” JUSTICE/ATR-006 (63 FR 8659, Feb. 20, 1998) and “Antitrust Division Case Cards,” JUSTICE/ATR-007 (60 FR 52692, Oct. 10, 1995);

2. Civil Division, “Central Civil Division Case File System,” JUSTICE/CIV-001 (63 FR 8659, Feb. 20, 1998);

3. Civil Rights Division, “Central Civil Rights Division Index File and Associated Records,” JUSTICE/CRT-001 (68 FR 47611, Aug. 11, 2003);

4. Criminal Division, “Central Criminal Division Index File and Associated Records,” JUSTICE/CRM-001 (72 FR 44182, Aug. 7, 2007);

5. Environment and Natural Resources Division, “Environment and Natural Resources Division Case and Related Files,” JUSTICE/ENRD-003 (65 FR 8990, Feb. 23, 2000); and

6. Tax Division, “Criminal Tax Files, Special Project Files, Docket Cards and Associated Records,” JUSTICE/TAX-001 (71 FR 11447, Mar. 7, 2006) and “Tax Division Civil Tax Case Files, Docket Cards, and Associated Records,” JUSTICE/TAX-002 (71 FR 11449, Mar. 7, 2006).

DATES: In accordance with 5 U.S.C. 552a(e)(4) and (11), the public is given a 30-day period in which to comment. Therefore, please submit any comments by March 22, 2012.

ADDRESSES: The public, Office of Management and Budget (OMB), and Congress are invited to submit any comments to the Department of Justice, ATTN: Privacy Analyst, Office of Privacy and Civil Liberties, Department of Justice, National Place Building, 1331 Pennsylvania Avenue NW., Suite 1000, Washington, DC 20530, or by facsimile at (202) 307-0693.

FOR FURTHER INFORMATION CONTACT: Holley B. O'Brien, Director, Debt Collection Management Staff (DCM), Justice Management Division, Department of Justice, 145 N Street, NE., Room 5E.101, Washington, DC 20530, at (202) 514-5343.

In accordance with 5 U.S.C. 552a(r) the Department has provided a report to OMB and Congress on the new system of records.

Dated: January 31, 2012.
Nancy C. Libin,
Chief Privacy and Civil Liberties Officer, United States Department of Justice.

JUSTICE/DOJ-016

SYSTEM NAME:

Debt Collection Enforcement System

SECURITY CLASSIFICATION:

Unclassified.

SYSTEM LOCATION:

The Justice Data Center, Rockville, MD 20854; and the DOJ components and offices throughout the country that have debt collection and enforcement records and/or responsibilities, including the Antitrust Division, the Civil Division, the Civil Rights Division, the Criminal Division, the Justice Management Division (JMD) Debt Collection Management Staff (DCM), the Executive Office for United States Attorneys (EOUSA), the Environment and Natural Resources Division (ENRD), and the Tax Division. Records may also reside in offices of private counsel retained by DOJ pursuant to contract (contract private counsel) to assist with debt collection.

CATEGORIES OF INDIVIDUALS COVERED BY THE SYSTEM:

Individuals indebted to the United States who have either: (1) Allowed their debts to become delinquent and whose delinquent debts have been referred to a DOJ litigating division, a United States Attorney Office (USAO), or to contract private counsel retained by DOJ, for settlement or enforced collection through litigation; and/or (2) incurred debts assessed by a federal court, e.g., fines or penalties in connection with civil or criminal proceedings.

In addition, the categories of individuals covered by the system include persons who are authorized to access and use the system. These individuals are Department of Justice employees and contractors.

CATEGORIES OF RECORDS IN THE SYSTEM:

This system of records contains records relating to the negotiation, compromise, settlement, and litigation of debts owed the United States, as well as for any amounts that the United States is authorized by law to collect for the benefit of any person or entity. Records consist of debt collection case files, as well as automated and/or hard-copy supporting data, as summarized below.

Case files include: evidence of indebtedness, judgment, or discharge; court filings such as legal briefs, pleadings, judgments, orders, and settlement agreements; litigation reports and related attorney work product; and agency status reports, memoranda, correspondence, and other documentation developed during the negotiation, compromise, settlement and/or litigation of debt collection activities.

Automated and/or hard-copy supporting data include information extracted from the case file and information generated or developed in support of federal debt collection activities. Such information may include: personal data (e.g., name, social security number, date of birth, taxpayer identification number, locator information, etc.); claim details (e.g., value and type of claim, such as benefit overpayment, loan default, bankruptcy, etc.); demand information, settlement negotiations, and compromise offered; account information (e.g., debtors' payments, including principal, penalties, interest, and balances, etc.); information regarding debtors' employment, assets, ability to pay, property liens, etc.; data regarding debtors' loans or benefits from client agencies or other entities; information on the status and disposition of cases at various times; data related to the Treasury Offset Program (TOP), which includes offsets by the Internal Revenue Service against income tax refunds, offsets of the salaries and benefits of federal employees or members of the Armed Forces, and other administrative offsets; and any other information related to the negotiation, compromise, settlement, or litigation of debts owed the United States and others, or to the administrative management of debt collection efforts.

The system also contains records regarding authorized system users, including audit log information and records relating to verification or authorization of an individual's access to the system. This information includes user name, date and time of use, search terms and filters, results that the user accessed, and a user's permissions and authorizations for particular data at that time.

AUTHORITY FOR MAINTENANCE OF THE SYSTEM:

This system is established and maintained pursuant to the Debt Collection Act of 1982, Public Law 97-365, 96 Stat. 1749 (1982), as amended by the Debt Collection Improvement Act of 1996, 31 U.S.C. 3701-3720E (original version at Pub. L. 104-134, 110 Stat. 132 (1996)), the Federal Debt Collection Procedures Act of 1990, 28 U.S.C. 3001-3307 (original version at Pub. L. 101-647, 104 Stat. 4933 (1990)), 28 U.S.C. 516, 28 U.S.C. 547, and 44 U.S.C. 3101. More specifically, 28 U.S.C. 516, 519, and 547 authorize the Attorney General to conduct litigation to collect delinquent debts due the United States. In addition, 31 U.S.C. 3718(b) authorizes the Attorney General to contract with private counsel to assist DOJ in collecting debts due the United States. The Attorney General is further authorized by 28 U.S.C. 3101 et seq. and 3201 et seq. to obtain both pre-judgment and post-judgment remedies against delinquent debtors. Moreover, under 28 U.S.C. 3201(a) and (e), a judgment against such a debtor creates a lien on all real property of the debtor, and renders that debtor ineligible for any grant or loan insured, financed, guaranteed, or made by the United States Government.

PURPOSES:

This system of records is maintained by the Department to cover records used by Department components or offices and/or contract private counsel to perform legal, financial, and administrative services associated with the collection of debts due the United States, including related negotiation, settlement, litigation, and enforcement efforts in accordance with the Debt Collection Act and related authority.

ROUTINE USES OF RECORDS MAINTAINED IN THE SYSTEM, INCLUDING CATEGORIES OF USERS AND THE PURPOSES OF SUCH USES:

(a) Information from this system may be disclosed to any federal, state, local, territorial, foreign, or tribal agency, or to an individual or organization, if there is reason to believe that such agency, individual, or organization possesses information relating to the verification or collection of debts owed the United States Government, and if the disclosure seeks to elicit information from such entities: (a) Regarding the status of such debts, including settlement, litigation, or other collection efforts; (b) regarding the identification or location of such debtors; (c) regarding the debtor's ability to pay; or (d) relating to the civil action, trial, or hearing, and the disclosure is reasonably necessary to elicit such information or to obtain the cooperation of an agency, individual, or organization.

(b) Information may be disclosed to federal agencies pursuant to the Debt Collection Improvement Act and related authority for any purpose related to debt collection, including locating debtors for debt collection efforts and/or effecting remedies against monies payable to such debtors by the Federal Government. In accordance with computer matching or data sharing programs, information may be disclosed to federal agencies, including the Department of Treasury, Treasury Offset Program, to effect tax refund, salary, and/or administrative offset against federal payments to collect a delinquent debt owed the United States; to the Department of Treasury, Internal Revenue Service, Taxpayer Address Request Program, to obtain the last known mailing address of a taxpayer for the purpose of locating such taxpayer to collect or to compromise a debt owed by the taxpayer to the United States; and to the Department of Housing and Urban Development, Credit Alert Interactive Verification Reporting System, for its use in providing information to federal agencies and private lenders to assist in evaluating the credit worthiness of federal loan applicants.

(c) Information from this system may be disclosed to client agencies who have referred outstanding debts to the DOJ for debt collection efforts including settlement or litigation, to notify such agencies of case developments, the status of accounts receivable or payable, case-related decisions or determinations, or to make such other inquiries and reports related to debt collection efforts.

(d) Information from this system may be disclosed to any federal agency that employs and/or pays pension, annuity, and/or other benefits to an individual who has been identified as a delinquent debtor for purposes of offsetting the individual's salary and/or pension, annuity, or other benefit payment received from that agency, when DOJ is responsible for the enforced collection of a judgment or claim against that person.

(e) Information from this system may be disclosed to any individual or organization requiring such information for the purpose of performing audit, oversight, and training operations of DOJ and to meet related reporting requirements.

(f) In accordance with regulations issued by the Secretary of the Treasury to implement the Debt Collection Improvement Act of 1996, information from this system may be disclosed to publish or otherwise publicly disseminate the identity of debtors and/or the existence of non-tax debts, in order to direct actions under the law toward delinquent debtors that have assets or income sufficient to pay their delinquent non-tax debts. However, such action may only be taken after reasonable steps have been taken to ensure the accuracy of the identity of a debtor, such debtor has had an opportunity to verify, contest, and pay (in whole or in part) a non-tax debt, and a review has been conducted by the Secretary of the Treasury or designee.

(g) Where a record, either alone or in conjunction with other information, indicates a violation or potential violation of law—criminal, civil, or regulatory in nature—the relevant records may be referred to the appropriate federal, state, local, territorial, tribal or foreign law enforcement authority or other appropriate entity charged with the responsibility for investigating or prosecuting such violation or charged with enforcing or implementing such law.

(h) Information from this system may be disclosed in an appropriate proceeding before a court, grand jury, or administrative or adjudicative body, when the Department of Justice determines that the records are arguably relevant to the proceeding; or in an appropriate proceeding before an administrative or adjudicative body when the adjudicator determines the records to be relevant to the proceeding.

(i) Information from this system may be disclosed to an actual or potential party to litigation or the party's authorized representative for the purpose of negotiation or discussion of such matters as settlement, plea bargaining, or in informal discovery proceedings.

(j) Information from this system may be disclosed to appropriate officials and employees of a federal agency or entity that requires information relevant to a decision concerning the hiring, appointment, or retention of an employee; the assignment, detail, or deployment of an employee; the issuance, renewal, suspension, or revocation of a security clearance; the execution of a security or suitability investigation; the letting of a contract, or the issuance of a grant or benefit.

(k) Information from this system may be disclosed to federal, state, local, territorial, tribal, foreign, or international licensing agencies or associations which require information concerning the suitability or eligibility of an individual for a license or permit.

(l) Information may be disclosed to contractors, grantees, experts, consultants, students, and others performing or working on a contract, service, grant, cooperative agreement, or other assignment for the federal government, when necessary to accomplish an agency function related to this system of records.

(m) Information may be disclosed to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(n) Information from this system may be disclosed to the National Archives and Records Administration for purposes of records management inspections conducted under the authority of 44 U.S.C. 2904 and 2906.

(o) Information from this system may be disclosed to the news media and the public, including disclosures pursuant to 28 CFR 50.2, unless it is determined that release of the specific information in the context of a particular case would constitute an unwarranted invasion of personal privacy.

(p) Information from this system may be disclosed to a Member of Congress or staff acting upon the Member's behalf when the Member or staff requests the information on behalf of, and at the request of, the individual who is the subject of the record.

(q) Information from this system relating to health care fraud may be disclosed to private health plans, or associations of private health plans, and health insurers, or associations of health insurers, for the following purposes: to promote the coordination of efforts to prevent, detect, investigate, and prosecute health care fraud; to assist efforts by victims of health care fraud to obtain restitution; to enable private health plans to participate in local, regional, and national health care fraud task force activities; and to assist tribunals having jurisdiction over claims against private health plans.

(r) Information from this system may be disclosed to complainants and/or victims, to the extent necessary to provide such persons with information and explanations concerning the progress and/or results of the investigation or case arising from the matters of which they complained and/or of which they were a victim.

(s) Information from this system may be disclosed to appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(t) Information from this system may be disclosed to such recipients and under such circumstances and procedures as are mandated by federal statute or treaty.

DISCLOSURE TO CONSUMER REPORTING AGENCIES:

Information from this system of records may be disclosed to a credit or consumer reporting agency, as such terms are used in the Fair Credit Reporting Act (15 U.S.C. 1681a-1681u) and the Debt Collection Act (31 U.S.C. 3701-3720E) when such information is necessary or relevant to federal debt collection efforts, including, but not limited to, obtaining a credit report on a debtor, payor, or other party-in-interest; reporting on debts due the Government; and/or pursuing the collection of such debts through settlement, negotiation, or litigation.

POLICIES AND PRACTICES FOR STORING, RETRIEVING, ACCESSING, RETAINING, AND DISPOSING OF RECORDS IN THE SYSTEM:

STORAGE:

While in the custody of DOJ, certain records in this system are maintained in automated computer information systems and stored in electronic format for use or reproduction in documents or report form at various times. Other records in this system are maintained in paper format and stored in file cabinets, safes, and similar storage containers by the component and/or office enforcing the collection of the debt.

RETRIEVABILITY:

Data in this system of records may be retrieved by debtor names, other personal identifiers, or case numbers, through computerized queries and other keyword searches.

SAFEGUARDS:

The Debt Collection Enforcement System security protocols meet multiple NIST Security Standards from authentication to certification and accreditation. Records in the Debt Collection Enforcement System are maintained in a secure, password protected electronic system environment that utilizes security hardware and software including: multiple firewalls, active intruder detection, and role-based access controls. Additional safeguards may vary by component.

RETENTION AND DISPOSAL:

Debt Collection Records maintained by DOJ Components are maintained in accordance with approved records retention schedules. The records (Master File) of the Department-wide debt collection system are maintained for seven years after close of the case. (N1-060-08-02)

SYSTEM MANAGER(S) AND ADDRESS:

For Debt Collection Management Staff/JMD information contact: FOIA/PA Contact, DOJ/Justice Management Division, 950 Pennsylvania Avenue NW., Room 1111, Washington, DC 20530-0001.

For Antitrust Division information contact: FOIA/PA Unit, DOJ/Antitrust Division, Liberty Square Building, Suite 1000, 450 Fifth Street NW., Washington, DC 20530-0001.

For Civil Division information contact: FOIA/PA Office, DOJ/Civil Division, Room 7304, 20 Massachusetts Avenue NW., Washington, DC 20530-0001.

For Civil Rights Division information contact: FOIA/PA Branch, DOJ/Civil Rights Division, 950 Pennsylvania Avenue NW., BICN, Washington, DC 20530-0001.

For Criminal Division information contact: FOIA/PA Unit, DOJ/Criminal Division, Keeney Building, Suite 1127, Washington, DC 20530-0001.

For Environment and Natural Resources Division information contact: FOIA/PA Office, Law and Policy Section, DOJ/ENRD, P.O. Box 4390, Ben Franklin Station, Washington, DC 20044-4390.

For Executive Office for United States Attorneys (United States Attorneys Offices) information contact: FOIA/PA Staff, DOJ/EOUSA, 600 E Street NW., Room 7300, Washington, DC 20530-0001. Contact information for the individual United States Attorneys Offices in the 94 Federal judicial districts nationwide can be located at www.usdoj.gov/usao.

For Tax Division information contact: Assistant Attorney General, Tax Division, U.S. Department of Justice, 950 Pennsylvania Avenue NW., Washington, DC 20530.

NOTIFICATION PROCEDURE:

Same as Record Access Procedures.

RECORD ACCESS PROCEDURES:

To the extent that information in this system of records is not subject to exemption, it is subject to access and amendment. A determination as to the applicability of an exemption to a specific record shall be made at the time a request for access is received. Requests for access must be in writing and should be addressed to the appropriate System Manager listed above. The envelope and letter should be clearly marked “Privacy Act Request” and comply with 28 CFR 16.41 (Requests for Access to Records). Access requests must contain the requester's full name, current address, date and place of birth, and should include a clear description of the records sought and any other information that would help to locate the record (e.g., name of the case and federal agency to whom the debtor is indebted). Access requests must be signed and dated and either notarized or submitted under penalty of perjury pursuant to 28 U.S.C. 1746.

CONTESTING RECORD PROCEDURES:

Individuals desiring to contest or amend information maintained in the system should clearly and concisely state what information is being contested, the reasons for contesting it, and the proposed amendment to the information. Address such inquiries to the appropriate System Manager listed above. The envelope and letter should clearly be marked “Privacy Act Request” and comply with 28 CFR 16.46 (Request for Amendment or Correction of Records).

RECORD SOURCE CATEGORIES:

Sources of information contained in this system primarily consist of the individuals covered by the system; DOJ and/or agencies to whom the individual is indebted, seeks benefits, or has furnished information; attorneys or other representatives of debtors and/or payors; and Federal, state, local, tribal, territorial, foreign, or private organizations or individuals who may have information regarding the debt, the debtor's ability to pay, or any other information relevant or necessary to assist in debt collection efforts.

EXEMPTIONS CLAIMED FOR THE SYSTEM:

The Privacy Act authorizes an agency to promulgate rules to exempt a system of records (or parts of a system of records) from certain Privacy Act requirements. The Attorney General has exempted this system from subsections (c)(3) and (4); (d)(1), (2), (3) and (4); (e)(1), (2), (3), (4) (G), (H), and (I), (5), and (8); (f); and (g) of the Privacy Act pursuant to 5 U.S.C. 552a(j)(2) for any criminal law enforcement information within the system; in addition, the system is exempt pursuant to 5 U.S.C. 552a(k)(2) from subsections (c)(3); (d)(1), (2), (3), and (4); (e)(1), (4)(G), (H), and (I); and (f). Rules have been promulgated in accordance with the requirements of 5 U.S.C. 553(b), (c), and (e) and have been published in today's Federal Register.

[FR Doc. 2012-3913 Filed 2-17-12; 8:45 am]

BILLING CODE 4410-CN-P